DEPARTMENT OF AGRICULTURE

Rural Utilities Service

7 CFR Part 1710

General and Pre-Loan Policies and Procedures Common to Insured and Guaranteed Electric Loans

AGENCY: Rural Utilities Service, USDA.

ACTION: Notice of confirmation of effective date.

SUMMARY: The Rural Utilities Service (RUS) hereby gives notice that no adverse comments were received regarding the direct final rule on the General and Pre-Loan Policies and Procedures Common to Insured and Guaranteed Electric Loans, published in the Federal Register, June 22, 1999, at 64 FR 33176, and confirms the effective date of the direct final rule.

DATE: The direct final rule, which published at 64 FR 33176, was effective August 6, 1999.

FOR FURTHER INFORMATION CONTACT: Blaine D. Stockton, Jr., Assistant Administrator, Electric Program, Rural Utilities Service, U.S. Department of Agriculture, Stop 1560, 1400 Independence Ave., SW., Washington, DC 20250-1560. Telephone: (202) 720-9545. FAX: (202) 690-0717. E-mail: bstockto@rus.usda.gov.

Confirmation of Effective Date

This is to confirm the effective date of the direct final rule, 7 CFR Part 1710, General and Pre-Loan Policies and Procedures Common to Insured and Guaranteed Electric Loans, published June 22, 1999, at 64 FR 33176, and is to advise that RUS did not receive any written adverse comments and no written notice of intent to submit adverse comments on this rule.

Dated: March 9, 2000.
Christopher A. McLean,
Acting Administrator, Rural Utilities Service.

[FR Doc. 00-6388 Filed 3-15-00; 8:45 am]

BILLING CODE 3410-15-P